DEPARTMENT OF HEALTH AND HUMAN SERVICES

Health Resources and Services Administration

Council on Graduate Medical Education; Request for Nominations

AGENCY: Health Resources and Services Administration, HHS.

ACTION: Notice.

SUMMARY: The Health Resources and Services Administration (HRSA) is requesting nominations to fill vacancies on the Council on Graduate Medical Education (COGME). COGME is authorized by Section 762 of the Public Health Service (PHS) Act (42 U.S.C. 294o), as amended. The Advisory Council is governed by the provisions of the Federal Advisory Act (FACA) (5 U.S.C. Appendix 2), as amended, which sets forth standards for the formation and use of advisory committees, and applies to the extent that the provisions of FACA do not conflict with the requirements of PHS Act Section 762.

DATES: The agency will receive nominations on a continuous basis.

ADDRESSES: All nominations should be submitted to Advisory Council Operations, Bureau of Health Workforce, HRSA, 11W45C, 5600 Fishers Lane, Rockville, Maryland 20857. Mail delivery should be addressed to Advisory Council Operations, Bureau of Health Workforce, HRSA, at the above address, or via email to: BHWAdvisoryCouncilFRN@hrsa.gov.

FOR FURTHER INFORMATION CONTACT: Joan Weiss, Ph.D., RN, CRNP, FAAN, Designated Federal Official, COGME at 301-443-0430 or email at jweiss@hrsa.gov. A copy of the current committee membership, charter, and reports can be obtained by accessing the Web site http://www.hrsa.gov/advisorycommittees/bhpradvisory/COGME/index.html.

SUPPLEMENTARY INFORMATION: COGME provides advice and makes policy recommendations to the Secretary of the U.S. Department of Health and Human Services (Secretary) and ranking members of the Senate Committee on Health, Education, Labor and Pensions, and the U.S. House of Representatives Committee on Energy and Commerce on matters concerning the supply and distribution of physicians in the United States, physician workforce trends, training issues, and financing policies. Meetings are held twice a year.

Specifically, HRSA is requesting nominations for voting members of COGME representing: Practicing primary care physicians, national and specialty physician organizations, foreign medical graduates, medical student and house staff associations, as well as representatives of schools of medicine, schools of osteopathic medicine, public and private teaching hospitals, health insurers, business, and labor. Among these nominations, medical students, residents, and/or fellows from these programs are encouraged to apply.

The Department of Health and Human Services (HHS) will consider nominations of all qualified individuals with the areas of subject matter expertise noted above. Individuals may nominate themselves or other individuals, and professional associations and organizations may nominate one or more qualified persons for membership. Nominations shall state that the nominee is willing to serve as a member of COGME and appears to have no conflict of interest that would preclude COGME membership. Potential candidates will be asked to provide detailed information concerning financial interests, consultancies, research grants, and/or contracts that might be affected by recommendations of COGME to permit evaluation of possible sources of conflicts of interest.

A nomination package should include the following information for each nominee:

(1) A letter of nomination from an employer, a colleague, or a professional organization stating the name, affiliation, and contact information for the nominee, the basis for the nomination (i.e., what specific attributes, perspectives, and/or skills does the individual possess that would benefit the workings of the COGME, and the nominee's field(s) of expertise);

(2) A letter of self-interest stating the reasons the nominee would like to serve on COGME;

(3) A biographical sketch of the nominee and a copy of his/her curriculum vitae; and

(4) The name, address, daytime telephone number, and email address at which the nominator can be contacted.

Nominations will be considered as vacancies occur on COGME. Nominations should be updated and resubmitted every 3 years to continue to be considered for committee vacancies. HHS strives to ensure that the membership of HHS federal advisory committees is balanced in terms of points of view represented and the committee's function. The Department encourages nominations of qualified candidates from all groups and locations. Appointment to COGME shall be made without discrimination on the basis of age, race, ethnicity, gender, sexual orientation, disability, and cultural, religious, or socioeconomic status.

Jason E. Bennett,
Director, Division of the Executive Secretariat.

[FR Doc. 2016-16751 Filed 7-14-16; 8:45 am]

BILLING CODE 4165-15-P